DEPARTMENT OF ENERGY

Federal Energy Regulatory Commission

Combined Notice of Filings #1

Take notice that the Commission received the following electric corporate filings:

Docket Numbers: EC23-122-000.

Applicants: Elgin Energy Center, LLC, Rocky Road Power, LLC, Middle River Power VI LLC, Middle River Power VII LLC

Description: Supplement to August 14, 2023, Joint Application for Authorization Under Section 203 of the Federal Power Act of Elgin Energy Center, LLC.

Filed Date: 8/22/23.

Accession Number: 20230822-5171

Comment Date: 5 p.m. ET 9/28/23.

Docket Numbers: EC23-126-000.

Applicants: Old Gold Energy Center, LLC.

Description: Application for Authorization Under Section 203 of the Federal Power Act of Old Gold Energy Center, LLC.

Filed Date: 8/29/23.

Accession Number: 20230829-5126.

Comment Date: 5 p.m. ET 9/19/23.

Take notice that the Commission received the following electric rate filings:

Docket Numbers: ER20-2054-003.

Applicants: ISO New England Inc., Central Maine Power Company, Versant Power, Fitchburg Gas and Electric Light Company, Green Mountain Power Corporation, New England Power Company, New Hampshire Transmission, LLC, NSTAR Electric Company, Public Service Company of New Hampshire, The Connecticut Light and Power Company, The United Illuminating Company, Unitil Energy Systems, Inc., Vermont Electric Cooperative, Inc., Vermont Transco LLC

Description: Compliance filing: ISO New England Inc. submits tariff filing per 35: ISO-NE PTOs; Joint Offer of Settlement Re VP, Bangor Hydro District Charges to be effective N/A.

Filed Date: 8/29/23.

Accession Number: 20230829-5031.

Comment Date: 5 p.m. ET 9/19/23.

Docket Numbers: ER23-1736-001.

Applicants: Big Plain Solar, LLC.

Description: Compliance filing: Notice of Commercial Operation and Revised Rate Schedule to be effective 6/30/2023.

Filed Date: 8/29/23.

Accession Number: 20230829-5097.

Comment Date: 5 p.m. ET 9/19/23.

Docket Numbers: ER23-1752-001.

Applicants: Oak Trail Solar, LLC.

Description: Tariff Amendment: Response to Deficiency Letter in ER23-1752 to be effective 6/30/2023.

Filed Date: 8/28/23.

Accession Number: 20230828-5408.

Comment Date: 5 p.m. ET 9/18/23.

Docket Numbers: ER23-2003-001.

Applicants: Invenergy Nelson Expansion LLC.

Description: Tariff Amendment: Deficiency Letter Response to be effective 7/1/2023.

Filed Date: 8/28/23.

Accession Number: 20230828-5384.

Comment Date: 5 p.m. ET 9/18/23.

Docket Numbers: ER23-2035-000.

Applicants: ISO New England Inc., Versant Power.

Description: Refund Report: ISO New England Inc. submits tariff filing per 35.19a(b): Versant Power; Refund Report—ER23-2035 to be effective N/A.

Filed Date: 8/29/23.

Accession Number: 20230829-5037.

Comment Date: 5 p.m. ET 9/19/23.

Docket Numbers: ER23-2189-001.

Applicants: Southwest Power Pool, Inc.

Description: Tariff Amendment: 1895R12 Evergy Kansas Central, Inc. NITSA NOA to be effective 9/1/2023.

Filed Date: 8/29/23.

Accession Number: 20230829-5113.

Comment Date: 5 p.m. ET 9/19/23.

Docket Numbers: ER23-2194-001.

Applicants: Southwest Power Pool, Inc.

Description: Tariff Amendment: 1892R12 Evergy Kansas Central, Inc. NITSA NOA to be effective 9/1/2023.

Filed Date: 8/29/23.

Accession Number: 20230829-5093.

Comment Date: 5 p.m. ET 9/19/23.

Docket Numbers: ER23-2197-001.

Applicants: Southwest Power Pool, Inc.

Description: Tariff Amendment: 1893R13 Evergy Kansas Central, Inc. NITSA NOA to be effective 9/1/2023.

Filed Date: 8/29/23.

Accession Number: 20230829-5095.

Comment Date: 5 p.m. ET 9/19/23.

Docket Numbers: ER23-2198-001.

Applicants: Southwest Power Pool, Inc.

Description: Tariff Amendment: 1894R12 Evergy Kansas Central, Inc. NITSA NOA to be effective 9/1/2023.

Filed Date: 8/29/23.

Accession Number: 20230829-5117.

Comment Date: 5 p.m. ET 9/19/23.

Docket Numbers: ER23-2199-001.

Applicants: Southwest Power Pool, Inc.

Description: Tariff Amendment: 1978R12 Evergy Kansas Central, Inc. NITSA NOA to be effective 9/1/2023.

Filed Date: 8/29/23.

Accession Number: 20230829-5119.

Comment Date: 5 p.m. ET 9/19/23.

Docket Numbers: ER23-2204-001.

Applicants: Southwest Power Pool, Inc.

Description: Tariff Amendment: 2066R12 Evergy Kansas Central, Inc. NITSA NOA to be effective 9/1/2023.

Filed Date: 8/29/23.

Accession Number: 20230829-5123.

Comment Date: 5 p.m. ET 9/19/23.

Docket Numbers: ER23-2213-001.

Applicants: Southwest Power Pool, Inc.

Description: Tariff Amendment: 2491R11 Evergy Kansas Central, Inc. NITSA NOA to be effective 9/1/2023.

Filed Date: 8/29/23.

Accession Number: 20230829-5131.

Comment Date: 5 p.m. ET 9/19/23.

Docket Numbers: ER23-2309-000.

Applicants: DCR Transmission, L.L.C.

Description: Report Filing: DCRT Supplemental Testimony Filing to be effective N/A.

Filed Date: 8/18/23.

Accession Number: 20230818-5083.

Comment Date: 5 p.m. ET 9/1/23.

Docket Numbers: ER23-2363-001.

Applicants: HXOap Solar One, LLC.

Description: Tariff Amendment: HXOap Solar One, LLC—Amendment Filing to be effective 8/28/2023.

Filed Date: 8/29/23.

Accession Number: 20230829-5118.

Comment Date: 5 p.m. ET 9/19/23.

Docket Numbers: ER23-2456-000.

Applicants: Platteview Solar, LLC.

Description: Supplement to July 21, 2023, Platteview Solar, LLC tariff filing.

Filed Date: 8/22/23.

Accession Number: 20230822-5174.

Comment Date: 5 p.m. ET 9/8/23.

Docket Numbers: ER23-2511-000.

Applicants: Hardy Hills Solar Energy LLC.

Description: Supplement to July 28, 2023, Hardy Hills Solar Energy LLC tariff filing.

Filed Date: 8/28/23.

Accession Number: 20230828-5435.

Comment Date: 5 p.m. ET 9/7/23.

Docket Numbers: ER23-2716-000.

Applicants: Moraine Sands Wind Power, LLC.

Description: Baseline eTariff Filing: Baseline new to be effective 10/30/2023.

Filed Date: 8/28/23.

Accession Number: 20230828-5400.

Comment Date: 5 p.m. ET 9/18/23.

Docket Numbers: ER23-2717-000.

Applicants: NRG Business Marketing LLC.

Description: Compliance filing: Informational Filing Regarding Upstream Transfer of Ownership to be effective N/A.

Filed Date: 8/29/23.

Accession Number: 20230829-5005.

Comment Date: 5 p.m. ET 9/19/23.

Docket Numbers: ER23-2718-000.

Applicants: NRG Business Marketing LLC, Midwest Generation, LLC.

Description: NRG Business Marketing LLC, et. al. requests a limited, one-time waiver of the 90-day notice requirement contained in Schedule 2 to the PJM Tariff.

Filed Date: 8/28/23.

Accession Number: 20230828-5423.

Comment Date: 5 p.m. ET 9/18/23.

Docket Numbers: ER23-2719-000.

Applicants: Orlando CoGen Limited, L.P.

Description: Baseline eTariff Filing: Application for Market Based Rate to be effective 1/1/2024.

Filed Date: 8/29/23.

Accession Number: 20230829-5055.

Comment Date: 5 p.m. ET 9/19/23.

Docket Numbers: ER23-2720-000.

Applicants: PJM Interconnection, L.L.C.

Description: § 205(d) Rate Filing: Original ISA, Service Agreement No. 7052; Queue No. AF1-205 to be effective 7/31/2023.

Filed Date: 8/29/23.

Accession Number: 20230829-5074.

Comment Date: 5 p.m. ET 9/19/23.

Docket Numbers: ER23-2722-000.

Applicants: SEPG Energy Marketing Services, LLC.

Description: Tariff Amendment: Notice of Cancellation to be effective 8/30/2023.

Filed Date: 8/29/23.

Accession Number: 20230829-5134.

Comment Date: 5 p.m. ET 9/19/23.

Docket Numbers: ER23-2723-000.

Applicants: Puget Sound Energy, Inc.

Description: § 205(d) Rate Filing: Powerex P-T-P, SA No. 1042 to be effective 9/1/2023.

Filed Date: 8/29/23.

Accession Number: 20230829-5157.

Comment Date: 5 p.m. ET 9/19/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 29, 2023.
Debbie-Anne A. Reese,
Deputy Secretary.

[FR Doc. 2023-19091 Filed 9-1-23; 8:45 am]

BILLING CODE 6717-01-P